DEPARTMENT OF TRANSPORTATION

Federal Aviation Administration

14 CFR Part 39

[Docket No. FAA-2004-19863; Directorate Identifier 2003-NM-29-AD; Amendment 39-14363; AD 2005-23-05]

RIN 2120-AA64

Airworthiness Directives; Airbus Model A319-100, A320-200, and A321-100 and -200 Series Airplanes

AGENCY: Federal Aviation Administration (FAA), Department of Transportation (DOT).

ACTION: Final rule.

SUMMARY: The FAA is superseding an existing airworthiness directive (AD), which applies to certain Airbus Model A319-100, A320-200, and A321-100 and -200 series airplanes. That AD currently requires modification of the telescopic girt bar of the escape slide/raft assembly, and follow-on actions. This new AD requires a new modification of the telescopic girt bar and the installation of placards on the modified girt bars, which terminates the repetitive functional tests required by the existing AD. This AD results from development of a new, improved modification. We are issuing this AD to prevent failure of the escape slide/raft to deploy correctly, which could result in the slide being unusable during an emergency evacuation and consequent injury to passengers or airplane crewmembers.

DATES: This AD becomes effective December 19, 2005.

The Director of the Federal Register approved the incorporation by reference of a certain publication listed in the AD as of December 19, 2005.

On August 31, 2001 (66 FR 42939, August 16, 2001), the Director of the Federal Register approved the incorporation by reference of Airbus Industrie All Operators Telex A320-52A1111, Revision 01, dated July 23, 2001, including Airbus Industrie Technical Disposition 959.1492/01, Issue C, dated July 17, 2001.

ADDRESSES: You may examine the AD docket on the Internet at http://dms.dot.gov or in person at the Docket Management Facility, U.S. Department of Transportation, 400 Seventh Street, SW., Nassif Building, room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that supersedes AD 2001-16-14, amendment 39-12383 (66 FR 42939, August 16, 2001). The existing AD applies to certain Airbus Model A319, A320, and A321 series airplanes. That supplemental NPRM was published in the Federal Register on July 21, 2005 (70 FR 42005). That supplemental NPRM proposed to mandate the installation of placards on the modified girt bars, which terminates the repetitive functional tests required by the existing AD.

Comments

We provided the public the opportunity to participate in the development of this AD. We have considered the additional comment that has been received on the supplemental NPRM. The commenter supports the supplemental NPRM.

Clarification of Alternative Method of Compliance (AMOC) Paragraph

We have changed this AD to clarify the appropriate procedure for notifying the principal inspector before using any approved AMOC on any airplane to which the AMOC applies.

Conclusion

We have carefully reviewed the available data, including the comment that has been received, and determined that air safety and the public interest require adopting the AD as proposed.

Costs of Compliance

This AD will affect about 517 airplanes of U.S. registry.

The modification that is required by AD 2001-16-14 and retained in this AD takes about 7 work hours per airplane, at an average labor rate of $65 per work hour. The cost of required parts is negligible. Based on these figures, the estimated cost of the currently required modification for U.S. operators is $235,235, or $455 per airplane.

The functional test that is required by AD 2001-16-14 and retained in this AD takes about 1 work hour per airplane, at an average labor rate of $65 per work hour. Based on these figures, the cost impact of the currently required functional test for U.S. operators is $33,605, or $65 per airplane, per test cycle.

For airplanes that have not been modified in accordance with AD 2001-16-14: The new modification (including the new placard installation) takes about 17 work hours per airplane, at an average labor rate of $65 per work hour. Required parts cost about $5,130 per airplane. Based on these figures, the estimated cost of the new modification specified in this AD is $6,235 per airplane.

For airplanes that have been modified in accordance with AD 2001-16-14: The new modification (including the new placard installation) takes about 21 work hours per airplane, at an average labor rate of $65 per work hour. Required parts cost about $5,130 per airplane. Based on these figures, the estimated cost of the new modification specified in this AD is $6,495 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12383 (66 FR 42939, August 16, 2001) and by adding the following new airworthiness directive (AD):

2005-23-05 Airbus: Amendment 39-14363. Docket No. FAA-2004-19863; Directorate Identifier 2003-NM-29-AD.

Effective Date

(a) This AD becomes effective December 19, 2005.

Affected ADs

(b) This AD supersedes AD 2001-16-14.

Applicability

(c) This AD applies to Airbus Model A319-111, -112, -113, -114, -115, -131, -132, and -133; A320-211, -212, -214, -231, -232, and -233; and A321-111, -112, -131, -211, and -231 airplanes; certificated in any category; equipped with telescopic girt bars of the escape slide/raft assembly installed per Airbus Modification 20234, or Airbus Service Bulletin A320-25-1055 or A320-25-1218 in service; except those airplanes with Airbus Modification 31708.

Unsafe Condition

(d) This AD was prompted by development of a new, improved modification of the telescopic girt bar of the escape slide/raft assembly. We are issuing this AD to prevent failure of the escape slide/raft to deploy correctly, which could result in the slide being unusable during an emergency evacuation and consequent injury to passengers or airplane crewmembers.

Compliance

(e) You are responsible for having the actions required by this AD performed within the compliance times specified, unless the actions have already been done.

Restatement of Requirements of AD 2001-16-14

Modification/Follow-On Actions

(f) For airplanes listed in Airbus Industrie All Operators Telex (AOT) A320-52A1111, Revision 01, dated July 23, 2001: Within 1,500 flight hours after August 31, 2001 (the effective date of AD 2001-16-14); except as provided by paragraph (h) of this AD, modify the telescopic girt bar of the escape slide/raft assembly installed on all passenger and crew doors and do a functional test to ensure the girt bar does not retract, per Airbus Industrie AOT A320-52A1111, Revision 01, dated July 23, 2001.

(1) If the girt bar retracts, before further flight, replace any discrepant parts and do another functional test to ensure the girt bar does not retract, per the AOT. Repeat the functional test thereafter at intervals not to exceed 18 months until paragraph (g) of this AD is accomplished.

(2) If the girt bar does not retract, repeat the functional test thereafter at intervals not to exceed 18 months.

Note 1: Modification and follow-on actions accomplished prior to the effective date of this AD per Airbus Industrie AOT A320-52A1111, dated July 5, 2001, are considered acceptable for compliance with the applicable actions specified in this amendment.

New Requirements of This AD

Modification

(g) Within 20 months after the effective date of this AD: Accomplish the actions specified in paragraphs (g)(1) and (g)(2) of this AD by doing all the applicable actions specified in the Accomplishment Instructions of Airbus Service Bulletin A320-52-1112, Revision 05, dated June 25, 2004. Accomplishing these actions terminates the repetitive functional tests required by paragraph (f) of this AD.

(1) Modify the telescopic girt bar of the escape slide/raft assembly.

(2) Install a placard on each modified girt bar.

(h) For airplanes on which the modification of the telescopic girt bar required by paragraph (g)(1) of this AD is accomplished within the compliance time specified in paragraph (f) of this AD, accomplishing the modification required by paragraph (f) is not required.

Modifications Accomplished According to Previous Issues of Service Bulletin

(i) Modification of the telescopic girt bar accomplished before the effective date of this AD in accordance with Airbus Service Bulletin A320-52-1112, dated January 16, 2002; Revision 01, dated April 3, 2002; Revision 02, dated September 6, 2002; Revision 03, dated June 27, 2003; or Revision 04, dated November 12, 2003; is considered acceptable for compliance with the modification of the telescopic girt bar required by paragraph (g)(1) of this AD.

Parts Installation

(j) As of the effective date of this AD, no person may install on any airplane a telescopic girt bar of the escape slide/raft assembly unless it has been modified as required by paragraph (g) of this AD.

Alternative Methods of Compliance (AMOCs)

(k)(1) The Manager, International Branch, ANM-116, Transport Airplane Directorate, FAA, has the authority to approve alternative methods of compliance (AMOCs) for this AD, if requested in accordance with the procedures found in 14 CFR 39.19.

(2) AMOCs approved previously in accordance with AD 2001-16-14 are approved as AMOCs with paragraph (f) of this AD.

(3) Before using any AMOC approved in accordance with 14 CFR 39.19 on any airplane to which the AMOC applies, notify the appropriate principal inspector in the FAA Flight Standards Certificate Holding District Office.

Related Information

(l) French airworthiness directives 2002-637(B) R1, dated April 16, 2003, and F-2005-057, dated April 13, 2005, also address the subject of this AD.

Material Incorporated by Reference

(m) You must use Airbus Service Bulletin A320-52-1112, Revision 05, dated June 25, 2004; and Airbus Industrie All Operators Telex A320-52A1111, Revision 01, dated July 23, 2001, including Airbus Industrie Technical Disposition 959.1492/01, Issue C, dated July 17, 2001; as applicable; to perform the actions that are required by this AD, unless the AD specifies otherwise.

(1) The Director of the Federal Register approved the incorporation by reference of Airbus Service Bulletin A320-52-1112, Revision 05, dated June 25, 2004; in accordance with 5 U.S.C. 552(a) and 1 CFR part 51.

(2) On August 31, 2001 (66 FR 42939, August 16, 2001), the Director of the Federal Register approved the incorporation by reference of Airbus Industrie All Operators Telex A320-52A1111, Revision 01, dated July 23, 2001, including Airbus Industrie Technical Disposition 959.1492/01, Issue C, dated July 17, 2001.

(3) Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on October 25, 2005.
Kalene C. Yanamura,
Acting Manager, Transport Airplane Directorate, Aircraft Certification Service.

[FR Doc. 05-22217 Filed 11-10-05; 8:45 am]

BILLING CODE 4910-13-P